DEPARTMENT OF TRANSPORTATION

Office of the Secretary

Applications for Certificates of Public Convenience and Necessity and Foreign Air Carrier Permits

Notice of Applications for Certificates of Public Convenience and Necessity and Foreign Air Carrier Permits Filed Under Subpart B (formerly Subpart Q) during the Week Ending February 16, 2013. The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2013-0032.

Date Filed: Februrary 15, 2013.

Due Date for Answers, Conforming Applications, or Motion to Modify Scope: March 8, 2013.

Description: Joint application of United Air Lines, Inc. (“United”), Continental Airlines, Inc. (“Continental”), Continental Micronesia, Inc. (“Continental Micronesia”) and Air Micronesia, Inc. (“Air Micronesia”) (collectively, the “Joint Applicants”) notifying the Department of an upcoming corporate name change of Continental to “United Airlines, Inc.”, requests reissuance of their certificates of public convenience and necessity and economic and other authorities to reflect this name change, and request that the trade name “Continental” be registered for use in their operations as may be needed during the completion of their merger and integration process.

Barbara J. Hairston,
Acting Program Manager, Docket Operations, Federal Register Liaison.

[FR Doc. 2013-05145 Filed 3-5-13; 8:45 am]

BILLING CODE 4910-9X-P